DEPARTMENT OF LABOR

Employment and Training Administration

[TA-W-57,888]

Pentair Pump, Pentair South (Hydromatic), 1840 Baney Road, Ashland, OH; Notice of Termination of Investigation

Pursuant to Section 221 of the Trade Act of 1974, as amended, an investigation was initiated on September 6, 2005 in response to a worker petition filed by the United Auto Workers Local 1932 on behalf of workers at Pentair South (Hydromatic) at 1840 Baney Road, Ashland, Ohio.

A certification covering all workers at the aforementioned facility was issued on April 28, 2003, and remained valid until April 28, 2005 (TA-W-51,215). All employment at the plant ceased in December, 2004. Thus the entire workforce is covered by that certification. This investigation is therefore without purpose and is hereby terminated.

Signed at Washington, DC, this 13th day of September, 2005.
Richard Church,
Certifying Officer, Division of Trade Adjustment Assistance.

[FR Doc. E5-5304 Filed 9-27-05; 8:45 am]

BILLING CODE 4510-30-P